DEPARTMENT OF DEFENSE

Office of the Secretary of Defense

[DoD-2007-OS-0143]

Privacy Act of 1974; System of Records

AGENCY: Office of the Secretary, DoD.

ACTION: Notice to Add Blanket Routine Uses to Systems of Records.

SUMMARY: The Office of the Secretary of Defense proposes to add a new “Blanket Routine Use” to DoD systems of records to its inventory of record systems subject to the Privacy Act of 1974 (5 U.S.C. 552a), as amended.

DATES: The changes will be effective on January 28, 2008 unless comments are received that would result in a contrary determination.

ADDRESSES: Send comments to Defense Privacy Office.

FOR FURTHER INFORMATION CONTACT: Mr. Samuel P. Jenkins at (703) 607-2943.

SUPPLEMENTARY INFORMATION: The Department of Defense notices for systems of records subject to the Privacy Act of 1974 (5 U.S.C. 552a), as amended, have been published in the Federal Register and are available from the address above or at www.dod.mil/privacy/notices.

The Office of the Secretary of Defense is proposing to establish a new Department of Defense “Blanket Routine Use” (BRU) that will apply to each of its current Privacy Act system of records unless the system notice for a particular system of records specifically excludes their application. The BRU will permit the sharing of terrorism information, if such information is contained within an identified system, among appropriate Federal, State, local, and tribal entities, as well as with Foreign governments, pursuant to the information sharing environment mandate as prescribed by the Intelligence Reform and Terrorism Prevention Act of 2004 (Pub. L. 108-458, Section 1016, as codified at 6 U.S.C. 485).

The proposed systems reports, as required by 5 U.S.C. 552a(r) of the Privacy Act of 1974, as amended, were submitted on December 19, 2007, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 20, 2007.
L.M. Bynum,
Alternate OSD Federal Register Liaison Officer, Department of Defense.

Department of Defense Blanket Routine Use

Routine Use—Information Sharing Environment

A record from a system of records maintained by a Component consisting of, or relating to, terrorism information (6 U.S.C. 485(a)(4)), homeland security information (6 U.S.C. 482(f)(1)), or Law enforcement information (Guideline 2 Report attached to White House Memorandum, “Information Sharing Environment, November 22, 2006) may be disclosed to a Federal, State, local, tribal, territorial, foreign governmental and/or multinational agency, either in response to its request or upon the initiative of the Component, for purposes of sharing such information as is necessary and relevant for the agencies to the detection, prevention, disruption, preemption, and mitigation of the effects of terrorist activities against the territory, people, and interests of the United States of America as contemplated by the Intelligence Reform and Terrorism Protection Act of 2004 (Pub. L. 108-458) and Executive Order 13388 (October 25, 2005).

Note: Information relating to, but not in and of itself constituting, terrorism, homeland security, or law enforcement information, as defined above, may only be disclosed upon a showing by the requester that the information is pertinent to the conduct of investigations of, or the development of analyses regarding, terrorism.

[FR Doc. E7-25283 Filed 12-27-07; 8:45 am]

BILLING CODE 5001-06-P